DEPARTMENT OF TRANSPORTATION

Federal Aviation Administration

Notice of Intent To Rule on Application To Impose a Passenger Facility Charge (PFC) at Naples Municipal Airport, Naples, FL

AGENCY: Federal Aviation Administration (FAA), DOT.

ACTION: Notice of intent to rule on application.

SUMMARY: The FAA proposes to rule and invites public comment on the application to impose a PFC at Naples Municipal Airport under the provisions of the Aviation Safety and Capacity Expansion Act of 1990 (Title IX of the Omnibus Budget Reconciliation Act of 1990) (Pub. L. 101-508) and Part 158 of the Federal Aviation Regulations (14 CFR Part 158).

DATES: Comments must be received on or before December 11, 2000.

ADDRESSES: Comments on this application may be mailed or delivered in triplicate to the FAA at the following address: Orlando Airports District Office, 5950 Hazeltine National Drive, Suite 400, Orlando, Florida 32822.

In addition, one copy of any comments submitted to the FAA must be mailed or delivered to Mr. Ted Soliday, Executive Director of the Naples Airport Authority at the following address: 160 Aviation Drive, Naples, FL 34104

Air carriers and foreign air carriers may submit copies of written comments previously provided to the Naples Airport Authority under § 158.23 of Part 158.

FOR FURTHER INFORMATION CONTACT: Jennifer Ganley, Program Manager, Orlando Airports District Office, 5950 Hazeltine National Drive, Suite 400, Orlando, FL 32822, (407) 812-6331, ext. 25. The application may be reviewed in person at this same location.

SUPPLEMENTARY INFORMATION: The FAA proposes to rule and invites public comment on the application to impose a PFC at Naples Municipal Airport under the provisions of the Aviation Safety and Capacity Expansion Act of 1990 (Title IX of the Omnibus Budget Reconciliation Act of 1990) (Public Law 101-508) and Part 158 of the Federal Aviation Regulations (14 CFR Part 158).

On November 1, 2000, the FAA determined that the application to impose a PFC submitted by Naples Airport Authority was substantially complete within the requirements of section 158.25 of Part 158. The FAA will approve or disapprove the application, in whole or in part, no later than February 15, 2001.

The following is a brief overview of the application.

PFC Application No.: 01-03-I-00-APF

Level of the proposed PFC: $3.00.

Proposed charge effective date: 8/1/01.

Proposed charge expiration date: 12/1/06.

Total estimated net PFC revenue: $850,000.

Brief description of proposed project(s): Rehabilitate and extend parallel Taxiway B.

Class or classes of air carriers which the public agency has requested not be required to collect PFCs: non-scheduled air carriers and charter operators using aircraft with less than 10 seats.

Any person may inspect the application in person at the FAA office listed above under FOR FURTHER INFORMATION CONTACT.

In addition, any person may, upon request, inspect the application, notice and other documents germane to the application in person at the Naples Airport Authority.

Issued in Orlando, Florida on November 1, 2000.
W. Dean Stringer,
Manager, Orlando Airports District Office, Southern Region.

[FR Doc. 00-28743 Filed 11-8-00; 8:45 am]

BILLING CODE 4910-13-M